ENVIRONMENTAL PROTECTION AGENCY

40 CFR Parts 148, 261, 268, 271 and 302

[FRL-6876-2]

RIN 2050-AE49

Hazardous Waste Management System; Identification and Listing of Hazardous Waste: Inorganic Chemical Manufacturing Wastes; Land Disposal Restrictions for Newly Identified Wastes; and CERCLA Hazardous Substance Designation and Reportable Quantities; Proposed Rule; Technical Correction

AGENCY: Environmental Protection Agency.

ACTION: Proposed rule; Technical correction.

SUMMARY: The Environmental Protection Agency (EPA) is correcting errors that appeared in the September 14, 2000 proposed rule (65 FR 55684) that announced the proposal to amend the regulations for hazardous waste management under the Resource Conservation and Recovery Act (RCRA) by listing as hazardous three wastes generated from inorganic chemical manufacturing processes. This document creates no new regulatory requirements. Rather, it corrects minor editing and formatting errors associated with the September 14, 2000 Federal Register document.

DATES: The comment period for the proposal (65 FR 55684, September 14, 2000) ends on November 13, 2000.

ADDRESSES: If you wish to comment on the proposed rule (65 FR 55684), you must send an original and two copies of the comments referencing docket number F-2000-ICMP-FFFFF to: RCRA Information Center, Office of Solid Waste (5305G), U.S. Environmental Protection Agency Headquarters, 1200 Pennsylvania Avenue, NW, Washington, D.C. 20460. Hand deliveries of comments should be made to RCRA Information Center, Crystal Gateway I, First Floor, 1235 Jefferson Davis Highway, Arlington, VA.

You also may submit comments electronically by sending electronic mail through the Internet to: rcra-docket@epa.gov. You should identify comments in electronic format with the docket number F-2000-ICMP-FFFFF. You must submit all electronic comments as an ASCII (text) file, avoiding the use of special characters and any form of encryption.

Address requests for a hearing to Mr. David Bussard at: Office of Solid Waste, Hazardous Waste Identification Division (5304W), U.S. Environmental Protection Agency, 1200 Pennsylvania Avenue, NW, Washington, D.C. 20460, (703) 308-8880.

FOR FURTHER INFORMATION CONTACT: For general information, contact the RCRA/Superfund Hotline at (800) 424-9346 or TDD (800) 553-7672 (hearing impaired). In the Washington, D.C., metropolitan area, call (703) 920-9810 or TDD (703) 412-3323. For specific aspects of the rule or the technical corrections, contact Ms. Gwen DiPietro, Office of Solid Waste (5304W), U.S. Environmental Protection Agency, 1200 Pennsylvania Avenue, NW, Washington, D.C., 20460. [E-mail address and telephone number: dipietro.gwen@epa.gov (703-308-8285).]

SUPPLEMENTARY INFORMATION:

I. Reasons and Basis for Today's Notice

The Agency in its review of the September 14, 2000 proposed rule (65 FR 55684) identified formatting and typographical errors in certain sections of the preamble and regulations.

Today's notice corrects these errors.

II. Public Comment Period

Today's notice does not create any new regulatory requirements; rather EPA is publishing these corrections to enable members of the public to understand the notice of the proposed rulemaking more quickly and easily. EPA believes that the September 14, 2000 notice presented the substance of the proposed rule, the rationale and the supporting data clearly enough to allow interested persons to understand all aspects of the proposed rule and to make comments. Consequently, EPA finds that it is not necessary to extend the comment period for the proposed rule. The comment period will still close on November 13, 2000.

III. Docket for the Proposed Rule

If you do not submit comments electronically, we ask you to voluntarily submit one additional copy of your comments on labeled personal computer diskettes in ASCII (text) format or a word processing format that can be converted to ASCII (text). It is essential to specify on the disk label the word processing software and version/edition as well as your name. This will allow us to convert the comments into one of the word processing formats we utilize. Please use mailing envelopes designed to physically protect the submitted diskettes. We emphasize that submission of comments on diskettes is not mandatory nor will it result in any advantage or disadvantage to any commenter.

You should not submit electronically any confidential business information (CBI). You must submit an original and two copies of CBI under separate cover to: RCRA CBI Document Control Officer, Office of Solid Waste (5305W), U.S. EPA, 1200 Pennsylvania Avenue, NW, Washington, D.C. 20460. Any CBI data should be specifically and clearly marked. In addition, please submit a non-CBI version of your comments for inclusion in the public record.

Supporting documents in the docket for this proposal are also available in electronic format on the Internet: ­http://www.epa.gov/epaoswer/hazwaste/id/inorchem/pr2000.htm. We will keep the official record for this action in paper form. Accordingly, we will transfer all comments received electronically into paper form and place them in the official record, which also will include all comments submitted directly in writing. The official record is the paper record maintained at the RCRA Information Center, also referred to as the Docket.

Our responses to comments, whether the comments are written or electronic, will be in a notice in the Federal Register or in a response to comments document placed in the official record for this rulemaking. We will not immediately reply to commenters electronically other than to seek clarification of electronic comments that may be corrupted in transmission or during conversion to paper form, as discussed above.

You may view public comments and supporting materials in the RCRA Information Center (RIC), located at Crystal Gateway I, First Floor, 1235 Jefferson Davis Highway, Arlington, VA. The RIC is open from 9 a.m. to 4 p.m., Monday through Friday, excluding federal holidays. To review docket materials, we recommend that you make an appointment by calling 703-603-9230. You may copy a maximum of 100 pages from any regulatory docket at no charge. Additional copies cost $0.15/page.

List of Subjects

40 CFR Part 148

Environmental protection, Administrative practice and procedure, Hazardous waste, Reporting and recordkeeping requirements, Water supply.

40 CFR Part 261

Environmental protection, Hazardous materials, Waste treatment and disposal, Recycling.

40 CFR Part 268

Environmental protection, Hazardous materials, Waste management, Reporting and recordkeeping requirements, Land Disposal Restrictions, Treatment standards.

40 CFR Part 271

Environmental protection, Administrative practice and procedure, Confidential business information, Hazardous material transportation, Hazardous waste, Indian-lands, Intergovernmental relations, Penalties, Reporting and recordkeeping requirements, Water pollution control, Water supply.

40 CFR Part 302

Environmental protection, Air pollution control, Chemicals, Emergency Planning and Community Right-to-Know Act, Extremely hazardous substances, Hazardous chemicals, Hazardous materials, Hazardous materials transportation, Hazardous substances, Hazardous wastes, Intergovernmental relations, Natural resources, Reporting and recordkeeping requirements, Superfund, Waste treatment and disposal, Water pollution control, Water supply.

Dated: September 19, 2000.
Matt Hale,
Deputy Director, Office of Solid Waste.

The following corrections are made in the preamble to FRL-6864-5, Identification and Listing of Hazardous Waste: Inorganic Chemical Manufacturing Wastes; Proposed Rule, published in the Federal Register on September 14, 2000 (65 FR 55684):

1. On page 55684, in the second column, first full paragraph, in the ADDRESSES Section, change the electronic mail address for the docket from “rcradocket@epamail.epa.gov” to “rcra-docket@epa.gov.”

2. On page 55687, in the first column, in Section C, in the second paragraph the appropriate quotes and indentations were missing. The entire Section C is reprinted below with the appropriate corrections:

C. What Is the Consent Decree Schedule for and Scope of This Proposal?

The 1984 Hazardous and Solid Waste Amendments (HSWA) to RCRA require EPA to make listing determinations for several specified categories of wastes, including “inorganic chemical industry wastes” (see RCRA section 3001(e)(2)). In 1989, the Environmental Defense Fund (EDF) filed a lawsuit to enforce the statutory deadlines for listing decisions in RCRA Section 3001(e)(2). (EDF v. Browner; D.D.C. Civ. No. 89-0598). To resolve most of the issues in the case, EDF and EPA entered into a consent decree, which has been amended several times to revise deadlines for EPA action. Paragraph 1.g (as amended) of the consent decree addresses the inorganic chemical industry:

“EPA shall promulgate a final listing determination for inorganic chemical industry wastes on or before October 31, 2001. This listing determination shall be proposed for public comment on or before August 30, 2000. The listing determination shall include the following wastes: sodium dichromate production wastes, wastes from the dry process for manufacturing phosphoric acid, phosphorus trichloride production wastes, phosphorus pentasulfide production wastes, wastes from the production of sodium phosphate from wet process phosphoric acid, sodium chlorate production wastes, antimony oxide production wastes, cadmium pigments production wastes, barium carbonate production wastes, potassium dichromate production wastes, phenyl mercuric acetate production wastes, boric acid production wastes, inorganic hydrogen cyanide production wastes, and titanium dioxide production wastes (except for chloride process waste solids). However, such listing determinations need not include any wastes which are excluded from hazardous waste regulation under section 3001(b)(3)(A)(ii) of RCRA and for which EPA has determined that such regulation is unwarranted pursuant to section 3001(b)(3)(C) of RCRA.”

Today's proposal satisfies EPA's duty under paragraph 1.g to propose determinations for inorganic chemical industry wastes.

As described above, the consent decree provides that EPA does not need to make listing determinations for certain wastes that it has exempted from hazardous waste regulations under the “Bevill amendments” to RCRA. See the discussion of “exempt mineral processing” wastes in section III.B.1 below.

3. On page 55693, in Section 4. Evaluation of Secondary Materials, in the first paragraph, enclose “40 CFR 261.2(e)” in parenthesis.

4. On page 55720, Table III-12 was incorrectly formatted. Table III-12 should read as follows:

5. On page 55721, Table III-13, incorrect values were identified for the “Adult HQ” and “Child HQ” for cadmium. Table III-13 should read as follows:

6. On page 55729, Table III-21, in the fourth row “Tote bin wash water”, the formatting for the reported hazard codes and the sequential management practices were not aligned correctly. Table III-21 should read as follows:

7. On page 55731, Table III-22, in the second row “Initial washout water from reactor”, the formatting for the reported hazard codes and the sequential management practices were not aligned correctly. Table III-22 should read as follows:

8. On page 55736, in Table III-28 a typographical error occurred in the first row of the table. Change “5E-08” to “6E-08” as the value under Adult HQ for, zinc for the 90th percentile. As corrected, Table III-28 is as follows:

9. On page 55737, Table III-30 was incorrectly formatted. Table III-30 should read as follows:

10. On page 55747, in Table III-38 a typographical error was identified. Change “0.003” to “0.006” for the Child HQ for antimony for the 95th percentile. A corrected Table III-38 is as follows:

11. On page 55751, in the first column, in section (6), a dash and an indentation were missing. The corrected text should read as follows:

(6) Recovered solids from the reaction area. Housekeeping results in the collection of coke and ore solids from the vicinity of the reaction area.

These wastes are Beville exempt.

—In one case, the facility conducts some processing of their ferric chloride waste acid (which is subsequently sold as a water and wastewater reagent), and generates a solids stream. We consider the processing that this facility conducts to be either an ancillary process or chemical manufacturing, and thus the subsequent solids stream is not generated from mineral processing and therefore is not exempt.

12. On page 55762, Table III-55 was not correctly formatted. The last entry, “2378-TetraCDD Equivalent” should be separated from other entries with a double line to designate the fact that it is a calculated value. Table III-55 should read as follows:

13. On pages 55775-55776, in section “C. Paperwork Reduction Act” in the last paragraph EPA reported the three year burden estimates as opposed to the annual burden estimate. The corrected text should read as follows:

The total annual respondent burden and cost for all existing paperwork associated with this proposed rule presented here represents the incremental increase in paperwork burden under four existing Information Collection Requests (ICRs). We estimate the total annual respondent burden for all information collection activities to be approximately 150 hours, at an annual cost of approximately $6,819.

The following corrections are made to the text of the proposed rules in FRL-6864-5, Identification and Listing of Hazardous Waste: Inorganic Chemical Manufacturing Wastes; proposed rule, published in the Federal Register on September 14, 2000 (65 FR 55684):

1. On page 55778, in the third column, amendatory instruction 2, showing amendments to § 148.18 incorrectly refers to “§ 148.19” in the regulatory heading. The correct text is: § 148.18 Waste specific prohibitions—newly identified wastes.

* * * * *

2. On page 55779, the amendments to the tables in § 261.32, appendices VII and VIII were incorrectly formatted. Amendatory instructions 5, 6, and 7 and the tables should read as follows:

5. In § 261.32, the table is amended by adding in alphanumeric order (by the first column) the following wastestreams to the subgroup “Inorganic Chemicals” to read as follows:

§ 261.32 Hazardous waste from specific sources.

* * * * *

* * * * *

6. Appendix VII to Part 261 is amended by adding the following wastestreams in alphanumeric order (by the first column) to read as follows:

* * * * *

7. Appendix VIII to Part 261 is amended by adding in alphabetical sequence of common name the following entries:

3. On page 55780, in § 268.40 in the Table—Treatment Standards for Hazardous Wastes—there are two errors. For the row K177, lead, change the wastewater concentration from 0.60 to 0.69 and correct the formatting for the CAS number, and concentrations for the first and second common names under K178. The corrected table reads as follows:

§ 268.40 Applicability of treatment standards.

* * * * *

[FR Doc. 00-24573 Filed 9-25-00; 8:45 am]

BILLING CODE 6560-50-C